DEPARTMENT OF ENERGY

Federal Energy Regulatory Commission

[Project No. 2170-029-AK]

Chugach Electric Association; Notice of Scoping Meetings and Site Visit and Soliciting Scoping Comments

July 28, 2005.

Take notice that the following hydroelectric application has been filed with Commission and is available for public inspection:

a. Type of Application: New major license.

b. Project No: 2170-029.

c. Date filed: April 22, 2005.

d. Applicant: Chugach Electric Association.

e. Name of Project: Cooper Lake Hydroelectric Project.

f. Location: On Cooper Lake, approximately 4.8 river miles from the mouth of Cooper Creek in south central Alaska on the Kenai Peninsula, 55 air miles south of Anchorage.

g. Filed Pursuant to: Federal Power Act, 16 U.S.C. 791(a)-825(r).

h. Applicant Contact: Burke Wick, Chugach Electric Association, 5601 Minnesota Drive, Anchorage, Alaska 99519. (907) 762-4779.

i. FERC Contact: David Turner (202) 502-6091 or david.turner@ferc.gov.

j. Deadline for filing scoping comments: October 10, 2005.

All documents (original and eight copies) should be filed with: Magalie R. Salas, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The existing project consists of: (1) The Cooper Lake Dam, a 52-foot-high earth-and-rockfilled structure; (2) the 2,910-acre, 5-mile-long Cooper Lake Reservoir; (3) two vertical-shaft Francis turbines with a total capacity of 19.38 megawatts; (4) an intake structure located on Cooper Lake; (5) a tunnel and penstock extending 10,686 feet east from the intake to the powerhouse; (6) a 6.3-mile-long, 69-kV transmission line from the powerhouse to Quartz Creek Substation; and 90.4-mile-long, 115-kV transmission line from the Quartz Creek Substation to Anchorage.

m. A copy of the application is available for review at the Commission in the Public Reference Room or may be viewed on the Commission's Web site at http://www.ferc.gov using the “eLibrary” link. Enter the docket number P-2170, excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Scoping Process: The Commission intends to prepare an Environmental assessment (EA) on the project in accordance with the National Environmental Policy Act. The EA will consider both site-specific and cumulative environmental impacts and reasonable alternatives to the proposed action.

Scoping Meetings

FERC staff will conduct two scoping meetings and one site visit. All Interested agencies, Indian tribes, NGOs, and individuals are invited to attend one or both of the Scoping meetings and to assist the staff in identifying the scope of environmental issues to be analyzed in an Environmental Assessment. Those who plan to attend the Site Visit must notify Chugach Electric of their planned attendance.

Cooper Landing Scoping Meeting

Date and Time: Tuesday, September 6, 2005, 7 p.m. to 9 p.m. (AKT).

Location: Cooper Landing Community Club, 18511 Bean Creek Road, Cooper Landing, Alaska 99575. (907) 595-1712.

The Community Club is located approximately 2 hours south of Anchorage off the Sterling Highway at milepost 47.7 (Cooper Landing). Turn north on Bean Creek Road.

Site Visit of Project

Date and Time: Wednesday, September 7, 2005, 1 p.m. to 4 p.m. (AKT).

Location: Cooper Lake Power House, Cooper Landing, Alaska.

RSVP: By August 22, 2005, Ms. May Clark, Relicensing Secretary, Chugach Electric, 907-762-4547 or may_clark@chugachelectric.com.

The Power House is located approximately 2 hours south of Anchorage off the Sterling Highway at milepost 48.0 (Cooper Landing). After crossing over the Kenai River Bridge, turn south (left) on Snug Harbor Road and travel eleven miles to the Power House.

Anchorage Scoping Meeting

Date and Time: Thursday, September 8, 2005, 1 p.m. to 3 p.m. (AKT).

Location: Hawthorn Suites, 1110 West 8th Ave, Anchorage, Alaska. 907-222-5005.

Copies of the Scoping Document (SD1) outlining the subject areas to be addressed in the EA were distributed to the parties on the Commission's mailing list. Copies of the SD1 will be available at the scoping meeting or may be viewed on the Web at http://www.ferc.gov using the “eLibrary” link (see item m above).

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Linda Mitry,
Deputy Secretary.

[FR Doc. E5-4200 Filed 8-4-05; 8:45 am]

BILLING CODE 6717-01-P